DEPARTMENT OF COMMERCE

International Trade Administration

[A-351-842]

Certain Uncoated Paper From Brazil: Rescission of Antidumping Duty Administrative Review; 2024-2025

AGENCY: Enforcement and Compliance, International Trade Administration, Department of Commerce.

SUMMARY: The U.S. Department of Commerce (Commerce) is rescinding the administrative review of the antidumping duty (AD) order on certain uncoated paper (uncoated paper) from Brazil covering the period of review (POR) March 1, 2024, though February 28, 2025. We are rescinding this administrative review with respect to Suzano S.A. (Suzano) because all review requests for the company have been withdrawn. Additionally, we are rescinding this administrative review with respect to Sylvamo do Brasil Ltda. and Sylvamo Exports Ltda. (collectively, Sylvamo), as it had no reviewable entries of subject merchandise during the POR.

DATES: Applicable February 12, 2026.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On March 3, 2016, Commerce published in the Federal Register the Order on uncoated paper from Brazil.¹ On March 4, 2025, Commerce published in the Federal Register a notice of opportunity to request an administrative review of the Order for the POR.² On March 31, 2025, Domtar Corporation (the petitioner) and Suzano S.A. (Suzano) submitted timely requests that Commerce conduct an administrative review.³ On April 28, 2025, Commerce published in the Federal Register a notice of initiation of an administrative review with respect to imports of uncoated paper from Brazil in accordance with section 751(a) of the Tariff Act of 1930, as amended (the Act).⁴

¹ See Certain Uncoated Paper from Australia, Brazil, Indonesia, the People's Republic of China, and Portugal: Amended Final Affirmative Antidumping Determinations for Brazil and Indonesia and Antidumping Duty Orders, 81 FR 11174 (March 3, 2016) (Order).

² See Antidumping and Countervailing Duty Order, Finding or Suspended Investigation; Opportunity to Request Administrative Review and Join Annual Inquiry Service List, 90 FR 11155 (March 4, 2025).

³ See Petitioner's Letters, “Request for Administrative Review,” dated March 31, 2025; see also Suzano's Letter, “Request for Administrative Review,” dated March 31, 2025.

⁴ See Initiation of Antidumping and Countervailing Duty Administrative Reviews, 90 FR 17568, 17572 (April 28, 2025).

On June 5, 2025, Commerce placed on the record U.S. Customs and Border Protection (CBP) entry data for the companies subject to the review.⁵ On June 12, 2025, Sylvamo filed comments on these entries stating that none of the shipments were attributable to Sylvamo.⁶

⁵ See Memorandum, “Release of Customs and Border Protection Data,” dated June 5, 2025.

⁶ See Sylvamo's Letter, “Comments on US Customs and Border Protection Data and Request for Recission of Administrative Review,” dated June 12, 2025.

On July 28, 2025, Suzano withdrew its request for a review of itself.⁷ Also on July 28, 2025, the petitioner withdrew its review request with respect to Suzano.⁸ On January 9, 2026, Commerce issued a notice of intent to rescind the 2024-2025 administrative review with respect to Sylvamo and invited interested parties to comment.⁹ No party filed comments in opposition and Sylvamo filed comments in agreement with the Notice of Intent to Rescind.¹⁰

⁷ See Suzano's Letter, “Withdrawal of Request for Administrative Review,” dated July 28, 2025.

⁸ See Petitioner's Letter, “Partial Withdrawal of Request for Administrative Review,” dated July 28, 2025.

⁹ See Memorandum, “Notice of Intent to Rescind Review,” dated January 9, 2026 (Notice of Intent to Rescind).

¹⁰ See Sylvamo's Letter, “Comments on Notice of Intent to Rescind Review,” dated January 16, 2026.

Due to the lapse in appropriations and Federal Government shutdown, on November 14, 2025, Commerce tolled all deadlines in administrative proceedings by 47 days.¹¹ Additionally, due to a backlog of documents that were electronically filed via Enforcement and Compliance's Antidumping and Countervailing Duty Centralized Electronic Service System (ACCESS) during the Federal Government shutdown, on November 24, 2025, Commerce tolled all deadlines in administrative proceedings by an additional 21 days.¹² Accordingly the deadline for the preliminary results of this review is now February 9, 2026.

¹¹ See Memorandum, “Deadlines Affected by the Shutdown of the Federal Government,” dated November 14, 2025.

¹² See Memorandum, “Tolling of all Case Deadlines,” dated November 24, 2025.

Rescission of Review

Pursuant to 19 CFR 351.213(d)(1), Commerce will rescind an administrative review, in whole or in part, if the parties that requested a review withdraw the request within 90 days of the date of publication of the notice of initiation. As noted above, on July 28, 2025, the petitioner and Suzano both withdrew their request for review regarding Suzano. Because the request for review of Suzano was timely withdrawn from the petitioner and Suzano, and because no other party requested a review of Suzano, in accordance with 19 CFR 351.213(d)(1), Commerce is rescinding this review for the company.

Additionally, pursuant to 19 CFR 351.213(d)(3), it is Commerce's practice to rescind an administrative review of an AD order when there are no reviewable entries of subject merchandise during the POR for which liquidation is suspended.¹³ Normally, upon completion of an administrative review, the suspended entries are liquidated at the AD assessment rate for the review period.¹⁴ Therefore, for an administrative review to be conducted, there must be a reviewable, suspended entry that Commerce can instruct CBP to liquidate at the newly calculated AD assessment rate.¹⁵

¹³ See, e.g., Certain Carbon and Alloy Steel Cut-to-Length Plate from the Federal Republic of Germany: Rescission of Antidumping Administrative Review; 2020-2021, 88 FR 4154 (January 24, 2023).

¹⁴ See 19 CFR 351.212(b)(1).

¹⁵ See 19 CFR 351.213(d)(3).

As noted above, there were no entries of subject merchandise for Sylvamo during the POR. Accordingly, in the absence of suspended entries of subject merchandise during the POR, we are hereby rescinding this administrative review of the company, in accordance with 19 CFR 351.213(d)(3).

Cash Deposit Requirements

As Commerce has proceeded to a final rescission of this administrative review, no cash deposit rates will change. Accordingly, the current cash deposit requirements shall remain in effect until further notice.

Assessment Rates

Commerce will instruct CBP to assess antidumping duties on all appropriate entries. Antidumping duties shall be assessed at rates equal to the cash deposit of estimated antidumping duties required at the time of entry, or withdrawal from warehouse, for consumption, in the United States, in accordance with 19 CFR 351.212(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: February 9, 2026.
/S/Scot Fullerton,
Scot Fullerton,
Acting Deputy Assistant Secretary for Antidumping and Countervailing Duty Operations.

[FR Doc. 2026-02781 Filed 2-11-26; 8:45 am]

BILLING CODE 3510-DS-P